DEPARTMENT OF THE INTERIOR

Bureau of Land Management

Notice of Availability of the Draft Supplemental Environmental Impact Statement for the Alpine Satellite Development Plan for the Proposed Greater Mooses Tooth Unit Development Project, Alaska

AGENCY: Bureau of Land Management, Interior.

ACTION: Notice.

SUMMARY: The Bureau of Land Management (BLM), Arctic Field Office, Fairbanks, Alaska, issues the Draft Supplemental Environmental Impact Statement (EIS) for public comment and announces upcoming public meetings and subsistence hearings to receive comments on the Draft Supplemental EIS and the proposed project's potential to impact subsistence resources and activities. Pursuant to the National Environmental Policy Act of 1969, as amended, the Supplemental EIS is being prepared to supplement the Alpine Satellite Development Plan (ASDP) Final EIS, dated September 2004, regarding the establishment of satellite oil production pads and associated infrastructure within the Alpine field.

DATES: To ensure comments will be considered, the BLM must receive written comments on the Draft Supplemental EIS within 60 days following the date the Environmental Protection Agency publishes its Notice of Availability in the Federal Register. Written comments on the Draft Supplemental EIS will be accepted until April 22, 2014.

Draft Supplemental EIS public meetings will be held in the following communities in Alaska: Anaktuvuk Pass, Anchorage, Atqasuk, Barrow, Fairbanks, Nuiqsut, Point Lay, and Wainwright. The public meetings at Anaktuvuk Pass, Atqasuk, Barrow, Nuiqsut, Point Lay, and Wainwright will incorporate subsistence hearings. The date, time, and location of the meetings will be announced on BLM Alaska's Web site, through public notices, media news releases, and/or other mailings.

ADDRESSES: Written comments should be mailed to: GMT1 SEIS Comments, Attn: Bridget Psarianos, 222 West 7th Avenue, # 13 Anchorage, AK 99513-7504; faxed to 907-271-3933; hand delivered to the BLM Public Information Center in the Federal Building, 222 West 7th Avenue, Anchorage, AK 99513-7504; or emailed to: gmt1comments@slrconsulting.com

Copies of the Draft Supplemental EIS are available for public inspection at the BLM Public Information Center in the Federal Building, 222 West 7th Avenue, Anchorage, AK 99513-7504; and the Fairbanks District Office at 1150 University Avenue, Fairbanks, AK 99709. The Draft Supplemental EIS can be reviewed at BLM Alaska's ePlanning Web site at http:www.blm.gov/ak/GMT. A CD or paper copy may be requested by calling Bridget Psarianos, BLM project lead at 907-271-4208.

FOR FURTHER INFORMATION CONTACT: Bridget Psarianos, BLM Alaska State Office, 907-271-4208. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The ASDP Draft Supplemental EIS analyzes an application by ConocoPhillips, Alaska, Inc. (CPAI) for issuance of a right-of-way grant and related authorizations to construct, operate, and maintain a drill site, access road, pipelines, and ancillary facilities to support development of petroleum resources at the Greater Mooses Tooth Unit # 1 (GMT1) drill site within the National Petroleum Reserve in Alaska (NPR-A). The BLM manages the surface and subsurface at the proposed drill site and a majority of the proposed infield road and pipeline route is on BLM-managed lands. The proposed GMT1 site is approximately 14 miles west of the CPAI-operated Alpine Central Processing Facility (CD-1). The proposed drill site would be operated and maintained by Alpine staff and supported using CD-1 infrastructure. The Draft Supplemental EIS will evaluate any relevant new circumstances and information which have arisen since the ASDP Final EIS was issued in September 2004, update alternatives, and address any changes to CPAI's proposed development plan for GMT1. The Draft Supplemental EIS will result in a Record of Decision (ROD) that will approve, deny, or approve with modification, CPAI's application, as well as incorporate any additional mitigation measures that may be relevant. The Draft Supplemental EIS analyzes CPAI's proposed project, three action alternatives to the proposed project, including an alternative that does not include a road between GMT1 and the currently permitted Colville Delta 5 pad, and a no action alternative. The key issues in the Draft Supplemental EIS center on oil and gas production decisions, the protection of physical, biological, and subsistence resources, and the evaluation and consideration of appropriate on-sight and compensatory mitigation measures.

Section 810 of the Alaska National Interest Lands Conservation Act requires the BLM to evaluate the effects of the alternatives presented in the Draft Supplemental EIS on subsistence activities, and to hold public hearings if it finds that any alternative may significantly restrict subsistence activities. The analysis of environmental impacts in the Draft Supplemental EIS indicates that the action alternatives and the cumulative impacts may significantly restrict subsistence activities in Nuiqsut; the cumulative impacts may also significantly restrict subsistence activities in Barrow, Atqasuk, Wainwright, Point Lay, and Anaktuvuk Pass. Therefore, the BLM will hold public hearings on subsistence in conjunction with the public meetings in the potentially affected communities of Anaktuvuk Pass, Atqasuk, Barrow, Nuiqsut, Point Lay, and Wainwright.

Written comments should be submitted by any of the methods listed in the ADDRESSES section. Before including your address, phone number, email address, or other personal identifying information in your comment, you should be aware that your entire comment—including your personal identifying information—may be made publicly available at any time. While you can ask us in your comment to withhold your personal identifying information from public view, we cannot guarantee that we will be able to do so.

Authority: 40 CFR 1502.9, 40 CFR 1506.6, 43 CFR Part 2880.

Bud Cribley,
State Director.

[FR Doc. 2014-03682 Filed 2-20-14; 8:45 am]

BILLING CODE 4310-JA-P